DEPARTMENT OF DEFENSE

Department of the Air Force

[Docket ID: USAF-2021-HQ-0005]

Submission for OMB Review; Comment Request

AGENCY: Department of the Air Force (USAF), Department of Defense (DoD).

ACTION: 5-Day notice.

SUMMARY: Consistent with the Paperwork Reduction Act of 1995 and its implementing regulations, this document provides notice that DoD is submitting an Information Collection Request to the Office of Management and Budget (OMB) to formalize the collection of information for The Isolated Personnel Report (ISOPREP): Personnel Recovery Mission Software (PRMS) and The DD 1833 ISOPREP Form. Information collected for the ISOPREP is used to positively identify, authenticate, support and recover isolated or missing DoD persons of interest. DoD requests emergency processing and OMB authorization to collect the information after publication of this notice for a period of six months.

DATES: Comments must be received by August 9, 2021.

ADDRESSES: The Department has requested emergency processing from OMB for this information collection request by 5 days after publication of this notice. Interested parties can access the supporting materials and collection instrument as well as submit comments and recommendations to OMB at www.reginfo.gov/public/do/PRAMain. Find this particular information collection by selecting “Currently under 5-day Review—Open for Public Comments” or by using the search function. Comments submitted in response to this notice will be summarized and included in the request for OMB approval of this information collection. They will also become a matter of public record.

FOR FURTHER INFORMATION CONTACT: Angela Duncan, 571-372-7574, or whs.mc-alex.esd.mbx.dd-dod-information-collections@mail.mil.

SUPPLEMENTARY INFORMATION: The Personnel Recovery Mission Software (PRMS) web application as part of the greater Personnel Recovery Command And Control (PRC2), USAF, system of record and the DD FORM 1833 sponsored by The Joint Personnel Recovery Agency (JPRA) both collect ISOPREP information from the following respondents: DoD Military, DoD Civilians, DoD Contractors authorized to accompany the force (CAAF), other US Government agency employees and Coalition military members supporting DoD operations overseas.

The ISOPREP collects Controlled Unclassified Information (CUI) in the form of full name and associates the name with sensitive Personal Identifiable Information (PII) including date of birth, Social Security number, pictures and fingerprints. The ISOPREP also collects confidential information as identified in the JPRA Personnel Recovery Security Classification Guide (PR SCG) in the form of personal authentication statements and codes known only to the individual who completes the ISOPREP. All personnel completing an initial ISOPREP are required to utilize the PRMS web application. In rare instances where personnel do not have access to PRMS a hardcopy DD FORM 1833 can be completed. When complete, ISOPREPS are stored in the PRC2 system on Secure internet Protocol Routing Network (SIPRNET), while a few hardcopy DD FORM 1833s are stored in other DoD classified environments.

In the unlikely event that personnel become isolated, the information on an individual's ISOPREP is used to positively identify, authenticate, support and recover that person. In the interest of protecting the force and returning personnel who support the DoD to their units, families and country, the information collected for the ISOPREP is a force requirement for those DoD military and civilians serving overseas.

Title; Associated Form; and OMB Number: Isolated Personnel Report (ISOPREP) PRMS web application and DD FORM1833; OMB Control Number 0701-ISOP.

Type of Request: New.

Number of Respondents: 1,200,000.

Responses per Respondent: 1.

Annual Responses: 1,200,000.

Average Burden per Response: 15 minutes.

Annual Burden Hours: 300,000.

Affected Public: Individuals or households.

Frequency: On occasion.

Respondent's Obligation: Voluntary.

Request for Comments

Comments are invited on: (1) Whether the proposed collection of information is necessary for the proper performance of the functions of DoD, including whether the information collected has practical utility; (2) the accuracy of DoD's estimate of the burden (including hours and cost) of the proposed collection of information; (3) ways to enhance the quality, utility, and clarity of the information to be collected; and (4) ways to minimize the burden of the collection of information on respondents, including automated collection techniques or the use of other forms of information technology.

Dated: July 29, 2021.
Kayyonne T. Marston,
Alternate OSD Federal Register Liaison Officer, Department of Defense.

[FR Doc. 2021-16488 Filed 8-2-21; 8:45 am]

BILLING CODE 5001-06-P